TENNESSEE VALLEY AUTHORITY

Sunshine Act; Meeting

Agency Holding the Meeting: Tennessee Valley Authority (Meeting No. 1538).

Time and Date: 9 a.m. (CST), March 26, 2002.

Place: Trousdale County Courthouse, 200 East Main Street, Hartsville, Tennessee.

Status: Open.

Agenda

Approval of minutes of meeting held on January 22, 2002.

New Business

C—Energy

C1. Sale at public auction of two coal leases on the TVA Illinois Coal Reserves and delegation of authority to the Executive Vice President, Fossil Power Group, to administer and amend the leases to maximize royalty income to TVA.

C2. Contract with Martin Marietta Aggregates for limestone supply for Cumberland Fossil Plant.

C3. Contract with Vulcan Materials Company for limestone supply for Widows Creek Fossil Plant Units 7 and 8.

C4. Contract with KenAmerican Resources, Inc., for coal supply for Paradise Fossil Plant Units 1 and 2.

C5. Contract with Liberty Coal Company, LLC, for coal supply for Shawnee Fossil Plant Unit 10.

C6. Extension of Contract No. CO0107-01 with Hopkins County Coal, LLC for coal supply for Widows Creek Fossil Plant Units 7 and 8 and award of a contract to Synfuel Solutions Operating, LLC for synthetic fuel to be manufactured from coal produced by Hopkins County Coal.

C7. Delegation of authority to enter into a coal transloading and blending services contract with Calvert City Terminal LLC for delivery to various TVA fossil plants.

C8. Contract with Cameco, Inc., for the supply of uranium trioxide to be used as blend stock to convert highly enriched uranium transferred to TVA from DOE into low enriched uranium suitable for use in nuclear fuel at TVA's Browns Ferry Nuclear Plant.

C9. Supplements to contracts with Adecco, Midpoint International, Inc., and Westaff to continue staff augmentation engineering and technical support services for all TVA organizations.

E—Real Property Transactions

E1. Public auction sale of approximately 554 acres of TVA land on the Hartsville Nuclear Plant Site Reservation for industrial/commercial development purposes only in Trousdale and Smith Counties, Tennessee (Tract No. XOHNP-2).

E2. Sale of noncommercial, nonexclusive permanent easements to Johnny and Lynn Solomon (Tract No. XTELR-224RE) and Michael and Nancy Huddleston (Tract No. XTELR-225RE) for construction, operation, and maintenance of private water-use facilities affecting approximately .08 acre of land on Tellico Reservoir in Monroe and Loudon Counties, Tennessee.

E3. Grant of permanent and temporary construction easements, without charge, except for payment of administrative costs, to the city of Jefferson City, Tennessee, affecting approximately 2.2 acres of land on Cherokee Reservoir in Jefferson County, Tennessee (Tract No. XTCK-66S), for a sewer line and pump station.

E4. Grant of a permanent easement for a substation, without charge, except for payment of administrative costs, to Appalachian Electric Cooperative affecting approximately 8.8 acres of land on Cherokee Dam Reservation in Grainger County, Tennessee (Tract No. XTCK-65SS).

E5. Modification of deed restrictions affecting approximately 11.9 acres of former TVA land on Chickamauga Reservoir (a portion of Tract No. XCR-188) in Rhea County, Tennessee.

E6. Grant of a permanent easement, without charge, except for administrative costs, to the city of Dayton, Tennessee, for recreation purposes affecting approximately 91.5 acres of land on Chickamauga Reservoir in Rhea County, Tennessee (Tract No. XTCR-199RE).

E7. Grant of a 5-year term easement, without charge, except for administrative costs, to the Watts Bar Utility District for a well, water storage tank, and waterlines affecting approximately 3.2 acres of land on Watts Bar Reservoir in Rhea County, Tennessee (Tract No. XTWBR-142E).

E8. Sale of a permanent easement to Jeff Pearcy for a road and utilities easement affecting approximately 0.53 acre of land on Kentucky Reservoir in Decatur County, Tennessee (Tract No. XGIR-938H).

E9. Grant of a permanent easement, without charge, except for payment of administrative costs, to the State of Tennessee for highway improvement purposes affecting approximately 1.1 acres of land on Melton Hill Reservoir in Anderson County, Tennessee (Tract No. XTMHR-20H).

E10. Grant of a permanent easement, without charge, except for payment of administrative costs, to the Bond Cemetery Perpetual Care Fund, Inc., for a cemetery expansion affecting approximately 1.6 acres of land on Cedar Creek Reservoir in Franklin County, Alabama (Tract No. XTBCCER-2CE).

E11. Grant of a permanent easement, without charge, except for payment of administrative costs, to the Alabama Department of Conservation and Natural Resources for general governmental and storage space purposes, affecting approximately 7 acres of land on Wheeler Reservoir in Limestone County, Alabama (Tract No. XTWR-108B).

E12. Public auction sale for commercial development purposes of approximately 4.1 acres of land on the Muscle Shoals Reservation in Colber County, Alabama (Tract No. X2NPT-16).

F—Other

F1. Approval to file condemnation cases to acquire transmission line easements of rights-of-way affecting Tracts Nos. HCVB-1, -2, -43, -45, -47, -49, -51, -54, -68, -71, -55 and -76, Hanceville-Bremen Transmission Line in Cullman County, Alabama, and Tracts Nos. SEM-1, -3, -38, and -29, Sturgis-Eupora Tap to Maben Transmission Line in Choctaw and Webster Counties, Mississippi.

Information Items

1. Approval of the renewal of the Regional Resource Stewardship Council charter for an additional 2 years.

2. Approval of the extension of Contract No. CO0036-01 with AEI Resources, Inc., for coal supply to Widows Creek Fossil Plant.

3. Approval of an amendment to the Business Practice entitled “The Acquisition and Disposal of Fossil Fuels and Related Transportation and Storage” to standardize and streamline TVA's fuel acquisition process and to reflect recent changes in the strategic alignment of the Fossil Power Group.

4. Approval of an amendment to the Business Practice entitled “The Sale or use of Coal Combustion By-Products and Related Services” to reflect recent changes in the strategic alignment of the Fossil Power Group.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: March 19, 2002.
Maureen H. Dunn,
General Counsel and Secretary.

[FR Doc. 02-7153 Filed 3-20-02; 4:25 am]

BILLING CODE 8120-08-M